ENVIRONMENTAL PROTECTION AGENCY

[EPA-HQ-OA-2006-0513; FRL-8232-7]

Agency Information Collection Activities: Request for Renewal of Information Collection for EPA's National Environmental Performance Track Program (Renewal), EPA ICR No. 1949.05, OMB Control No. 2010-0032

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before November 20, 2006.

ADDRESSES: Submit your comments, identified by Docket ID No. EPA-HQ-OA-2006-0513 to: (1) EPA online using www.regulations.gov (our preferred method), by e-mail to oei.docket@epa.gov or by mail to: EPA Docket Center, Environmental Protection Agency, Office of Environmental Information Docket in the EPA Docket Center (EPA/DC), 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Robert D. Sachs, Office of Policy, Economics and Innovation, Mail Code 1807T, Environmental Protection Agency, 1200 Pennsylvania Ave., NW., Washington, DC 20460; telephone number: (202) 566-2884; fax number: (202) 566-0966; e-mail address: Sachs.Robert@epa.gov.

SUPPLEMENTARY INFORMATION: EPA has submitted the following ICR to OMB for review and approval according to the procedures prescribed in 5 CFR 1320.12. On June 22nd, 2006 (71 FR 35904), EPA sought comments on this ICR pursuant to 5 CFR 1320.8(d). EPA received 1 comment during the comment period, which is addressed in the ICR. Any additional comments on this ICR should be submitted to EPA and OMB within 30 days of this notice.

EPA has established a public docket for this ICR under Docket ID No. EPA-HQ-OA-2006-0513, which is available for online viewing at www.regulations.gov, or in person viewing at the Office of Environmental Information Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of Environmental Information Docket is (202) 566-1752.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, CBI, or other information whose public disclosure is restricted by statute. For further information about the electronic docket, go to www.regulations.gov.

Title: Information Collection Request for EPA's National Environmental Performance Track Program (Renewal).

ICR Numbers: EPA ICR No. 1949.05, OMB Control No. 2010-0032.

ICR Status: This ICR is scheduled to expire on October 31, 2006. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: EPA's National Environmental Performance Track is a voluntary program that recognizes and rewards private and public facilities that demonstrate top environmental performance beyond current requirements. The program is based on the premise that government should complement existing programs with new tools and strategies that not only protect people and the environment, but also capture opportunities for reducing cost and spurring technological innovation.

Performance Track is a facility based program (not company-wide) that solicits and receives applications and makes acceptance decisions twice per year from February through April, and August through October. Applying facilities must meet four basic criteria: (1) A history of sustained compliance with environmental regulations; (2) an Environmental Management System (EMS) in place that has undergone an assessment by an independent third party; (3) past and future environmental achievements, and a commitment to quantified continuous environmental improvement; and (4) public involvement and annual reporting. Once accepted, members remain in the program for three years, as long as they continue to meet the program criteria. After three years, they may apply to renew their membership through a streamlined application process.

No confidential information is requested in this notice. An agency may not conduct or sponsor, and a person is not required to respond to, a collection of information unless it displays a currently valid OMB control number. The OMB control numbers for EPA's regulations are listed in 40 CFR part 9 and 48 CFR chapter 15.

Burden Statement: The annual public reporting and recordkeeping burden for this collection of information is estimated to average 16.4 hours per facility per year. This includes all applications, compliance screens, annual reporting, incentives participation, and site visits. EPA estimates that all facilities who voluntarily respond to this information collection by electing to participate in the Performance Track program have determined that the expected benefits of participation outweigh any burdens associated with preparing the response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Performance track member facilities and States.

Estimated Number of Respondents: 476.

Frequency of Response: Annually, triennially, and biennially.

Estimated Total Annual Hour Burden: 7,750.

Estimated Total Annual Cost: $514,521, which includes $0 capital and O&M costs.

Changes in the Estimates: There is a decrease of 105,689 annual hours in the total estimated burden currently identified in the OMB Inventory of Approved ICR Burdens. This decrease is due to an adjustment to the estimated program participation burden.

Dated: October 11, 2006.
Oscar Morales,
Director, Collection Strategies Division.

[FR Doc. E6-17449 Filed 10-18-06; 8:45 am]

BILLING CODE 6560-50-P